DEPARTMENT OF AGRICULTURE

Forest Service

New Mexico Collaborative Forest Restoration Program Technical Advisory Panel

AGENCY: Forest Service, USDA.

ACTION: Notice of meeting.

SUMMARY: The New Mexico Collaborative Forest Restoration Program Technical Advisory Panel will meet in Albuquerque, New Mexico. The purpose of the meeting is to provide recommendations to the Regional Forester, USDA Forest Service Southwestern Region, on which forest restoration grant proposals submitted in response to the Collaborative Forest Restoration Program Request For Proposals best meet the objectives of the Community Forest Restoration Act (Title VI, Pub. L. No. 106-393).

DATES: The meeting will be held April 27-May 1, 2009, beginning at 1 p.m. on Monday, April 27 and ending at approximately 4 p.m. on Friday, May 1.

ADDRESSES: The meeting will be held at the MCM Elegante Hotel, 2020 Menaul, NE., Albuquerque, NM 87107, Tel. 505-884-2511. Written comments should be sent to Walter Dunn, at the Cooperative and International Forestry Staff, USDA Forest Service, 333 Broadway, SE., Albuquerque, NM 87102. Comments may also be sent via e-mail to wdunn@fs.fed.us, or via facsimile to Walter Dunn at (505) 842-3165.

All comments, including names and addresses when provided, are placed in the record and are available for public inspection and copying. The public may inspect comments received at the Cooperative and International Forestry Staff, USDA Forest Service, 333 Broadway, SE., Albuquerque, or during the Panel meeting at the MCM Elegante Hotel, 2020 Menaul, NE., Albuquerque, NM 87107, Tel. 505-884-2511.

FOR FURTHER INFORMATION CONTACT: Walter Dunn, Designated Federal Official, at (505) 842-3425, or Alicia San Gil, at (505) 842-3289, Cooperative and International Forestry Staff, USDA Forest Service, 333 Broadway, SE., Albuquerque, NM 87102.

Individuals who use telecommunication devices for the deaf (TDD) may call the Federal Information Relay Service (FIRS) at 1-800-877-8339 between 8 a.m. and 8 p.m., Eastern Standard Time, Monday through Friday.

SUPPLEMENTARY INFORMATION: The meeting is open to the public. Panel discussion is limited to Forest Service staff and Panel members. However, project proponents may respond to questions of clarification from Panel members or Forest Service staff. Persons who wish to bring Collaborative Forest Restoration Program grant proposal review matters to the attention of the Panel may file written statements with the Panel staff before or after the meeting. Public input sessions will be provided and individuals who submitted written statements prior to the public input sessions will have the opportunity to address the Panel at those sessions.

March 3, 2009.
Faye L. Krueger,
Deputy Regional Forester.

[FR Doc. E9-4946 Filed 3-9-09; 8:45 am]

BILLING CODE 3410-11-M